Presidential Determination No. 2014-15 of September 15, 2014

Presidential Determination on Major Drug Transit or Major Illicit Drug Producing Countries for Fiscal Year 2015

Memorandum for the Secretary of State

Pursuant to section 706(1) of the Foreign Relations Authorization Act, Fiscal Year 2003 (Public Law 107-228) (FRAA), I hereby identify the following countries as major drug transit and/or major illicit drug producing countries: Afghanistan, The Bahamas, Belize, Bolivia, Burma, Colombia, Costa Rica, Dominican Republic, Ecuador, El Salvador, Guatemala, Haiti, Honduras, India, Jamaica, Laos, Mexico, Nicaragua, Pakistan, Panama, Peru, and Venezuela.

A country's presence on the foregoing list is not a reflection of its government's counternarcotics efforts or level of cooperation with the United States. Consistent with the statutory definition of a major drug transit or drug producing country set forth in section 481(e)(2) and (5) of the Foreign Assistance Act of 1961, as amended (FAA), the reason major drug transit or illicit drug producing countries are placed on the list is the combination of geographic, commercial, and economic factors that allow drugs to transit or be produced, even if a government has carried out the most assiduous narcotics control law enforcement measures.

Pursuant to section 706(2)(A) of the FRAA, I hereby designate Bolivia, Burma, and Venezuela as countries that have failed demonstrably during the previous 12 months to adhere to their obligations under international counternarcotics agreements and take the measures set forth in section 489(a)(1) of the FAA. Included in this report are justifications for the determinations on Bolivia, Burma, and Venezuela, as required by section 706(2)(B) of the FRAA. Explanations for these decisions are published with this determination.

I have also determined, in accordance with provisions of section 706(3)(A) of the FRAA, that support for programs to aid Burma and Venezuela are vital to the national interests of the United States.

International Framework for Narcotics and Crime Control

This determination highlights significant U.S. domestic drug control issues and foreign assistance approaches to drug control. It also examines policies and programs shared by most countries to counter the destabilizing effects of illegal drugs and transnational organized crime. The combined aim of these undertakings is to foster sustainable citizen security to advance social welfare, safety, and economic prosperity of vulnerable communities around the world.

International cooperation remains the cornerstone for reducing the threat posed by the illegal narcotics trade and related crimes carried out by criminal organizations. The sophisticated and effective operations of organizations challenge law enforcement officials and policymakers everywhere. The essential underpinnings of our unified stance against criminal enterprise are embodied in longstanding international agreements, including the 1961, 1971, and 1988 U.N. Conventions; the U.N. Convention against Transnational Organized Crime; and the U.N. Convention against Corruption. A myriad of regional and sub-regional joint undertakings, such as the 2010 Drug Strategy for the Hemisphere, adopted by the 34 members of the Organization of American States, mirror the wide-ranging standards of the U.N. conventions. The frameworks established by the U.N. conventions are as applicable to the contemporary world as when they were negotiated and signed by the vast majority of U.N. member states.

The United States shares the view of most countries that the U.N. drug conventions—without negotiation or amendment—are resilient enough to unify countries that often hold divergent views of the causes of the international narcotics problem, while at the same time providing a framework upon which to build the best solutions to it. The U.N. drug conventions, which recognize that the suppression of international drug trafficking demands urgent attention and the highest priority, allow sovereign nations the flexibility to develop and adapt new policies and programs in keeping with their own national circumstances while retaining their focus on achieving the conventions' aim of ensuring the availability of controlled substances for medical and scientific purposes, preventing abuse and addiction, and suppressing drug trafficking and related criminal activities. The United States supports the view of most countries that revising the U.N. drug conventions is not a prerequisite to advancing the common and shared responsibility of international cooperation designed to enhance the positive goals we have set to counter illegal drugs and crime.

The Challenge of Opium Poppy Production and Heroin

The 2014 U.N. World Drug Report states that illegal poppy cultivation and production of heroin and opium and other derivatives are at the top of the list of global drug problems.

According to the Office of National Drug Control Policy, the latest United States Government estimates show for the third consecutive year, in Afghanistan, which has the world's largest opium poppy cultivation, cultivation increased from 180,000 hectares in 2012 to 198,000 hectares in 2013. The opium poppy trade in Afghanistan threatens domestic institutions, subverts the legal economy, and undermines good governance and the capacity of the Afghan people. Although less pronounced, opium poppy cultivation also increased considerably in Burma and Laos; this situation presents similar threats in these countries as those faced by Afghanistan.

In spite of Afghanistan's crop reduction setbacks, which include a reduction in eradication from 9,672 hectares in 2012 to 7,348 hectares in 2013, U.S. assistance has advanced the country's counternarcotics capacity in some areas. In particular, there have been positive developments in Afghan programs such as interdiction, prosecutions, treatment services, and alternative livelihoods for farmers. All of this has happened in the context of a difficult security situation and entrenched corruption. Still, opium poppy is grown in less than 3 percent of farmable land; nearly 10 times more is devoted to wheat production.

United States support for Afghanistan after 2014 will focus on maintaining established infrastructure and improving security. The United States is also working to secure more bilateral and multilateral assistance from the international community beyond programs that are already in place. This includes support from Canadian and European partners. At the same time, it is in the best interest of countries in the region with high levels of opium-product abuse to support Afghanistan's counternarcotics efforts. This includes Afghanistan's immediate neighbors, Iran, Pakistan, and Russia, as well as other nations such as India and China. There is also an increase in transshipments of Afghanistan heroin going to Canada, a development of concern that is being addressed by Canada with support from the United States.

In the past several years, U.S. officials have noted an alarming surge in the use of heroin and are taking many steps to confront this growing domestic problem. Survey results released in 2012 reported that nearly 700,000 American citizens used heroin, as compared to 373,000 in 2007. In the United States, between 2006 and 2010, heroin deaths increased by 45 percent. Today, experts understand that people from various walks of life are abusing opium products. Significant increases have been noted in major U.S. cities, including Atlanta, Denver, Chicago, San Diego, and Seattle. In the United States, between 2006 and 2011, heroin-involved deaths increased by 110 percent.

The United States is particularly concerned about poppy cultivation in Mexico, the primary supplier of illegal opium derivatives to the United States. According to the Heroin Signature Program carried out by the U.S. Drug Enforcement Administration (DEA), opium poppy products also arrive in the United States from Colombia and Guatemala, although to a lesser extent from these countries than from Mexico. DEA reported a 324 percent increase in heroin seizures at the Mexican border between 2009 and 2013.

The United States is increasing its heroin drug interdiction efforts as one element of a set of measures for confronting the growing problem. Since 2011, more than 4,500 heroin related investigations were opened in the country. Overseas, $110 million in U.S. funds have been provided to Mexican border agencies for inspection equipment and training. Concrete success resulting from this support includes seizure of illegal drugs and currency by Mexican authorities valued at nearly $4 million. Similarly, U.S. foreign assistance helped Colombia seize 379 kilograms of heroin in 2013, and Guatemala eradicated a considerable amount of poppy cultivation in the same year. Working with concerned counterparts, the United States will adjust policy approaches and build upon existing programs, including the Mexico Merida Initiative, to counter criminal elements that are creating heroin markets in the United States and reaping growing illegal profits.

Cocaine Production and Use

The 2014 U.N. World Drug Report reaffirms that Colombia, Bolivia, and Peru continue to cultivate virtually the world's entire supply of coca for cocaine and related products. The good news is that illegal coca crop production, now approximately 133,700 hectares in the three countries, is at the lowest level since authorities began to establish estimates in 1990. Moreover, global seizures have slightly increased, according to the U.N. Office on Drugs and Crime (UNODC).

The United States is the world's largest consumer of illegal cocaine, followed by Brazil and certain countries in Europe. Although the DEA reports that cocaine availability declined steadily in the United States from 2007 to 2012, the number of cocaine users has remained steady in recent years, according to U.S. surveys.

United States law enforcement agencies estimate that about 84 percent of the cocaine entering the United States passes through Central America and Mexico to reach destinations in the United States. Based on a decline in maritime interdiction assets and diminished intelligence, there has been a reduction in the awareness of cocaine transshipments. While recent assessments indicate an increase in cocaine flow in the maritime transit zone, there are conflicting indicators on total cocaine flow and continued success in combating drug trafficking organizations will require closing awareness gaps.

Various types of U.S. assistance, including numerous programs aimed at supporting national efforts to interdict drugs and target major traffickers, are carried out through the Central American Regional Security Initiative. Similar programs are supported by the United States through the Caribbean Basin Security Initiative. These programs support national efforts to increase law enforcement capability to confront organized crime and gangs, build judicial sector capacity, and advance economic and social programs for at-risk youth and communities disproportionately affected by illegal drugs and crime.

New Psychoactive Substances (NPS)

Confronting illegal production and consumption of methamphetamine in the United States, with much of the product originating in Mexico, has been compounded by the growing problem of NPS—also described as synthetic designer drugs. This is a dynamic industry that uses chemicals and other substances that are frequently not controlled. According to the 2014 U.N. World Drug Report, the number of NPS more than doubled over the period 2009-2013. The number of such substances reported to UNODC, almost 500, far exceeds the psychoactive substances already controlled by the U.N. conventions.

In the United States, the DEA secured emergency scheduling of certain substances and statutory changes (The Synthetic Drugs Abuse Prevention Act of 2012), banning many of these substances, but U.S. law enforcement agencies report that substance variations to make NPS are continually appearing, posing a serious threat to public health and unprecedented challenges to drug awareness and treatment programs.

In 2013, the European Commission announced it would strengthen the European Union's ability to respond to NPS by withdrawing products used to make them from the market. This action followed a report by the European Monitoring Center for Drugs and Drug Addiction stating that the scale of NPS use is growing dramatically on the continent. In its most recent reports, UNODC highlights the NPS problem in particular. In one significant initiative, UNODC is working to create a network to exchange information on NPS use and related trends. With U.S. assistance, another UNODC program seeks to identify the connections between pre-cursor chemicals and NPS. Much of this action has been proposed in resolutions by the Commission on Narcotic Drugs to promote international cooperation in responding to the challenged posed by NPS.

Drug Awareness and Demand Reduction

The international community recognizes that drug use is as much a public health problem as it is a public safety issue. The U.S. National Drug Control Strategy stresses that prevention and treatment must be adapted to the latest scientific knowledge and social services to help individuals overcome their addictions. This approach has been adopted in other countries following the call to member states by the International Narcotics Control Board to integrate abuse prevention into public health, health promotion, and child and youth prevention programs. More than 2,600 specialty courts in the United States have connected over 120,000 people convicted of drug-related offenses with the community services they need to avoid future drug use. Similar initiatives around the world, many supported by the United States, provide a variety of alternatives to incarceration programs for nonviolent offenders. These programs are integral to scientifically based drug control policies.

Looking to the Future

Historically, U.S. foreign assistance programs have focused primarily on fighting drug production and have supported related law enforcement programs. This approach is still integral to U.S. policy, but efforts today take an increasingly holistic approach. Beginning with the current decade, efforts aimed at preventative measures in U.S. assistance programs are designed to enhance overall citizen security by challenging both transnational and local security threats. These efforts involve U.S. partnerships including the public and private sectors to achieve our common security goals and create safe communities. This is carried out through law enforcement training, judicial and human rights training, and alternative development, emphasizing that such efforts must be designed to create and maintain safe environments.

In many nations, especially in Central and South America, countries are actively seeking to strengthen their inter- and intra-regional cooperation and exchange of information about best practices for counternarcotics and crime control law enforcement activities relative to broad citizen security. Taken as a whole, they are intended to promote respect for the rule of law and human rights and to empower citizens to foster law-abiding communities consistent with long-term sustainability.

You are hereby authorized and directed to submit this determination, with the enclosed memoranda of justification regarding Bolivia, Burma, and Venezuela, under section 706 of the FRAA, to the Congress, and publish it in the Federal Register.

THE WHITE HOUSE,

Washington, September 15, 2014

[FR Doc. 2014-22675

Filed 9-19-14; 11:15 am]

Billing code 4710-10